BUREAU OF CONSUMER FINANCIAL PROTECTION

12 CFR Part 1002

Equal Credit Opportunity Act (Regulation B)

CFR Correction

In Title 12 of the Code of Federal Regulations, Parts 900 to 1025, revised as of January 1, 2016, on page 86, in supplement 1 to part 1002, under “Section 1002.14—Rules on Providing Appraisals and Valuations”, remove subsection 14(c).

[FR Doc. 2016-16301 Filed 7-8-16; 8:45 am]

BILLING CODE 1505-01-D